DEPARTMENT OF THE INTERIOR

Fish and Wildlife Service

[FWS-R8-ES-2010-N261; 80221-1112-80221-F2]

San Diego County Water Authority Subregional Natural Community Conservation Program/Habitat Conservation Plan, San Diego and Riverside Counties, CA; Final Environmental Impact Statement and Habitat Conservation Plan

AGENCY: Fish and Wildlife Service, Interior.

ACTION: Notice of availability.

SUMMARY: Under the National Environmental Policy Act (NEPA), we, the Fish and Wildlife Service (Service), announce the availability of the final Environmental Impact Report (EIR)/Environmental Impact Statement (EIS) on the application from the San Diego County Water Authority (Water Authority; Applicant) for an incidental take permit under section 10(a)(1)(B) of the Endangered Species Act of 1973, as amended (Act). We also announce the availability of the Water Authority's Subregional Natural Community Conservation Program/Habitat Conservation Plan (NCCP/HCP), which the applicant has submitted with their incidental take permit application and Implementing Agreement (IA). If issued, the permit would authorize incidental take of species for a 55-year term during construction, operations, and maintenance activities by the Applicant in San Diego and Riverside Counties, California.

DATES: A record of decision will be signed no sooner than 30 days after the publication of the Environmental Protection Agency (EPA) notice of the Final EIS in the Federal Register. We must receive any comments by 5 p.m. on March 7, 2011.

ADDRESSES: Send comments by U.S. mail to Mr. Jim Bartel, Field Supervisor, at Carlsbad Fish and Wildlife Office, 6010 Hidden Valley Road, Suite 101, Carlsbad, CA 92011; or by facsimile to (760) 431-5902.

FOR FURTHER INFORMATION CONTACT: Ms. Karen A. Goebel, Assistant Field Supervisor, at the Carlsbad Fish and Wildlife Office address above; or telephone (760) 431-9440.

SUPPLEMENTARY INFORMATION: We advise the public of the availability of the final EIR/EIS on the application from Water Authority for an incidental take permit. The EIR portion of the joint document was prepared by the Water Authority in compliance with the California Environmental Quality Act (CEQA).

We also announce the availability of the Water Authority Subregional Natural Community Conservation Program/Habitat Conservation Plan (NCCP/HCP), which the applicant has submitted with their incidental take permit application and Implementing Agreement (IA). If issued, the permit would authorize incidental take of 37 animal species and provide assurances for 26 plant species (including 18 federally listed species) during the proposed 55-year term of the permit. The permit is needed because incidental take of federally listed animal species could occur during construction, operations, and maintenance activities by the Applicant within the approximately 992,000-acre (401,450-hectare) Plan Area in western San Diego County and south-central Riverside County, California.

Availability of Documents

Documents available for public review include the final EIR/EIS which includes response to public comments received on the draft EIR/EIS, the Water Authority NCCP/HCP, and the IA. For copies of the documents, please contact the Service by telephone at (760) 431-9440, or by letter to the Carlsbad Fish and Wildlife Office (see FOR FURTHER INFORMATION CONTACT). Copies of the documents also are available for public review, by appointment, during regular business hours, at the Carlsbad Fish and Wildlife Office or at the San Diego County Water Authority Office (4677 Overland Avenue, San Diego, CA 92123). Copies are also available for viewing in select San Diego County and Riverside County public libraries (listed below) and at the Water Authority's Web site: http://www.sdcwa.org/.

1. Carlsbad Public Library—Reference Desk. 1775 Dove Lane, Carlsbad, CA 92009.

2. Chula Vista Public Library—Reference Desk. 365 F Street, Chula Vista, CA 91910.

3. Escondido Public Library—Reference Desk. 239 S. Kalmia Street, Escondido, CA 92025.

4. Lakeside Public Library—Reference Desk. 9839 Vine Street, Lakeside, CA 92040.

5. Mission Valley Branch Library—Reference Desk. 2123 Fento Parkway, San Diego, CA 92108.

6. San Diego Public Library—Reference Desk. 820 E Street, San Diego, CA 92101.

7. Temecula Public Library—Reference Desk. 30600 Pauba Road, Temecula, CA 92592.

Background

Section 9 of the Endangered Species Act of 1973, as amended (Act; 16 U.S.C. 1531 et seq.), and Federal regulations prohibit the “take” of fish and wildlife species federally listed as endangered or threatened. Take of federally listed fish or wildlife is defined under the Act as to harass, harm, pursue, hunt, shoot, wound, kill, trap, capture, or collect listed species, or attempt to engage in such conduct (16 U.S.C. 1538). “Harm” includes significant habitat modification or degradation that actually kills or injures listed wildlife by significantly impairing essential behavioral patterns, including breeding, feeding, and sheltering (50 CFR 17.3(c)). Under limited circumstances, we may issue permits to authorize incidental take, which is defined under the Act as take that is incidental to, and not the purpose of, otherwise lawful activities. Although take of plant species is not prohibited under the Act, and therefore cannot be authorized under an incidental take permit, plant species are proposed to be included on the permit in recognition of the conservation benefits provided to them under the NCCP/HCP. Regulations governing incidental take permits for threatened and endangered species are found in 50 CFR 17.32 and 17.22, respectively. All species included on the incidental take permit, if issued, would receive assurances under the Service's “No Surprises” regulation (50 CFR 17.22(b)(5) and 17.32(b)(5)).

The Applicant seeks incidental take authorization for 37 animal species and assurances for 26 plant species. Collectively the 63 listed and unlisted species are referred to as “Covered Species” by the NCCP/HCP and include 26 plant species (5 endangered, 5 threatened, and 16 unlisted); 5 invertebrate species (3 endangered and 2 unlisted); 2 amphibian species (1 endangered and 1 unlisted); 9 reptile species (all unlisted); 13 bird species (2 endangered, 1 threatened, and 10 unlisted); and 8 mammal species (1 endangered and 7 unlisted). Take authorized for listed covered animal species would be effective upon permit issuance. For currently unlisted covered animal species, take authorization would become effective concurrent with listing, should the species be listed under the Act during the permit term.

The proposed permit would include the following eight federally listed animal species: Stephens' kangaroo rat (Dipodomys stephensi; endangered), least Bell's vireo (Vireo bellii pusillus; endangered), coastal California gnatcatcher (Polioptila californica californica; threatented), southwestern willow flycatcher (Empidonax traillii extimus; endangered), arroyo toad (Anaxyrus (=Bufo) californicus; endangered), Quino checkerspot butterfly (Euphydryas editha quino; endangered), Riverside fairy shrimp (Streptocephalus woottoni; endangered), and San Diego fairy shrimp (Branchinecta sandiegoensis; endangered). The proposed permit would include assurances for the following 10 federally listed plant species: Encinitas baccharis (Baccharis vanessae; threatened), Otay mesa mint (Pogogyne nudiuscula; endangered), Otay tarplant (Deinandra conjugens; threatened), San Diego ambrosia (Ambrosia pumila; endangered), San Diego button-celery (Eryngium aristulatum var. parishii; endangered), San Diego mesa mint (Pogogyne abramsii; endangered), San Diego thorn-mint (Acanthomintha ilicifolia; threatened), spreading navarretia (Navarretia fossalis; threatened), thread-leaved brodiaea (Brodiaea filifolia; threatened), and willowy monardella (Monardella viminea; endangered). See the final EIR/EIS and NCCP/HCP for information on unlisted species proposed for coverage under the permit.

The Water Authority NCCP/HCP is intended to protect and sustain viable populations of native plant and animal species and their habitats in perpetuity through avoidance, minimization, and mitigation measures, including purchase of lands for permanent conservation and use of mitigation credits in mitigation banks previously established to address mitigation requirements associated with the proposed NCCP/HCP. The proposed NCCP/HCP and permit would accommodate the Water Authority's ongoing operations and maintenance requirements, future facility upgrades, and construction of new facilities that are needed to maintain a safe, reliable water source to its member agencies and the San Diego region.

The Water Authority's NCCP/HCP Plan Area encompasses approximately 992,000 acres (401,450 hectares) in western San Diego County and the vicinity of Lake Skinner in south-central Riverside County. The NCCP/HCP is intended to function independently of other HCPs within the San Diego region [e.g., San Diego Multiple Species Conservation Plan (MSCP) and its associated subarea plans, and Western Riverside County's Multiple Species Habitat Conservation Plan (MSHCP)].

As described in the NCCP/HCP and the final EIR/EIS, the proposed NCCP/HCP would provide protection measures for species on Water Authority property and easements, in part by using available mitigation credits from mitigation banks previously established or in planning by the Water Authority as habitat management areas (HMAs). Covered activities, including planned and future projects, are estimated to impact up to 373 acres (151 hectares) of habitat for Covered Species that will require mitigation over the 55-year term of the permit. When on-site mitigation for permanent impacts is not feasible, available mitigation credits would be debited from HMAs in accordance with in-kind mitigation ratios identified in the NCCP/HCP. The Water Authority has established four HMAs (including three upland properties and one wetland creation property) and will establish two addition wetland HMAs totaling 1,920 acres (775 hectares), for which the Water Authority has or will provide endowments for permanent management. Of these acres, approximately 700 acres (283 hectares) would be available as credits to mitigate for project impacts to Covered Species. Costs associated with the NCCP/HCP would be funded as a capital cost under the Water Authority Capital Improvement Program's (CIP) Mitigation Program or within individually approved CIP project budgets, and/or the annual operating budget of the Water Authority's Water Resources Department. The Water Authority estimates its long-term financial needs based on the CIP and has adopted a 2-year budget cycle to address short-term funding and expenditures. Also, contingency measures have been included in the plan should the Water Authority's costs to implement, monitor, and report on the NCCP/HCP's measures exceed the budgeted amount. The Water Authority maintains a diverse revenue base and consistently evaluates existing and potential revenue sources to ensure that funding of all Water Authority projects is adequate.

The NCCP/HCP includes measures to avoid, minimize, and mitigate incidental take of the Covered Species, emphasizing project design modifications to protect Covered Species and their habitats. A monitoring and reporting plan would gauge the Plan's success based on achievement of biological goals and objectives and would ensure that conservation keeps pace with development. The NCCP/HCP also includes a management program, including adaptive management, which allows for changes in the conservation program if the biological species objectives are not met or if new information becomes available to improve the efficacy of the NCCP/HCP's conservation strategy.

Covered Activities would include developing new water transmission, storage, and flow management facilities, in addition to conducting operation and maintenance activities. These Covered Activities fall under three primary categories, including:

(1) Construction of Capital Improvement Program Facilities;

(2) Operation and Maintenance Activities; and

(3) Preserve Area Management, Monitoring, and Adaptive Management

National Environmental Policy Act Compliance

Our proposal to issue an incidental take permit is a Federal Action that triggers the need for compliance with NEPA. Accordingly, as the Federal agency responsible for compliance under NEPA, we have prepared jointly with the Water Authority an EIR/EIS that analyzes three alternatives in addition to the proposed action (i.e., permit issuance based on the Water Authority NCCP/HCP) described above. The other alternatives include a no-action (i.e., no permit) alternative, a larger species list alternative, and a reduced plan area alternative. Two other alternatives were considered during the planning process but were not evaluated because neither met the purpose and need of both the Water Authority and the Service; these alternatives involved a no-take alternative and an alternative requiring the Water Authority to participate in other existing regional HCPs.

The final EIR/EIS includes all comments we received on the draft EIR/EIS and our responses to those comments. After the 30-day waiting period, we will complete a Record of Decision that announces our decision on what action will be implemented and discusses all factors leading to the decision.

Public Involvement

We published a notice of intent to prepare an EIS for this project in the Federal Register on November 26, 2003 (68 FR 66478). The Service and Water Authority held a public scoping meeting on December 11, 2003. On March 4, 2010, we published a notice of availability of the draft EIR/EIS, draft Water Authority NCCP/HCP, and draft IA in the Federal Register (75 FR 9921). Public meetings were held on March 17 and March 18, 2010. The draft documents were available for a 90-day public comment period ending on June 2, 2010.

Public Review

Copies of the final EIR/EIS, Water Authority NCCP/HCP, and IA are available for review (see Availability of Documents). Any comments we receive will become part of the administrative record and may be available to the public. Before including your address, phone number, e-mail address, or other personal identifying information in your comment, you should be aware that your entire comment, including your personal identifying information, may be made publicly available at any time. While you may ask us in your comment to withhold your personal identifying information from public review, we cannot guarantee that we will be able to do so.

Dated: January 20, 2011.
Alexandra Pitts,
Deputy Regional Director, Pacific Southwest Region, Sacramento, California.

[FR Doc. 2011-2264 Filed 2-3-11; 8:45 am]

BILLING CODE 4310-55-P